DEPARTMENT OF HEALTH AND HUMAN SERVICES

Health Care Financing Administration

[Document Identifier: HCFA-10038]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection;

Title of Information Collection: Survey of Medicaid Home and Community-Based Services Waiver and Personal Care Option Recipients for the Multi-Site Study of Medicaid Home and Community-Based Services—Mental Retardation/Developmental Disabilities (MR/DD);

Form No.: HCFA-10038 (OMB# 0938-New);

Use: The purpose of this collection is to request OMB authorization to collect information to be used in a study based on participants in Medicaid home and community-based services programs. Information collected will pertain to a description of the person, information regarding service use, unmet need for HCBS, quality of life, satisfaction with services, general health and functional status, care management and consumer direction. These data will be combined with secondary data (the Medicaid Statistical Information System) on utilization of health care services to analyze the coordination of care; utilization; outcomes; and cost of providing services. Although this study will address programs serving individuals with mental retardation or a developmental disability (MR/DD) and programs serving aged and younger adults with disabilities (A/D), this OMB clearance request covers only the survey data collection for the MR/DD population. The A/D population survey is being cleared separately;

Frequency: Other: One-time only;

Affected Public: Individuals or Households, Federal Government, and State, Local, or Tribal Government;

Number of Respondents: 6,300;

Total Annual Responses: 6,300;

Total Annual Hours: 2,415.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, HCFA-10038, Room N2-14-26, 7500 Security Boulevard, Baltimore, Maryland 21244-1850.

Dated: April 11, 2001.
John P. Burke III,
HCFA Reports Clearance Officer, HCFA Office of Information Services, Security and Standards Group, Division of HCFA Enterprise Standards.

[FR Doc. 01-9777 Filed 4-19-01; 8:45 am]

BILLING CODE 4120-03-P